DEPARTMENT OF HEALTH AND HUMAN SERVICES

Administration for Children and Families

Proposed Information Collection Activity; Office of Community Services Affordable Housing and Supportive Services Demonstration Data Collection (Office of Management and Budget #: 0970-0628)

AGENCY: Office of Community Services, Administration for Children and Families, U.S. Department of Health and Human Services.

ACTION: Request for public comments.

SUMMARY: The Office of Community Services (OCS), Administration for Children and Families (ACF), U.S. Department of Health and Human Services, is requesting an extension of approval for a recently approved information collection: OCS Affordable Housing and Supportive Services Demonstration (Office of Management and Budget (OMB) #: 0970-0628; Expiration Date: September 30, 2024). This information collection was originally approved for 6 months as an emergency approval. In addition to extending the approval, OCS seeks to update the burden estimates to accommodate an anticipated increase in the number of grant recipients, as well as to collect additional responses to several of the instruments. OCS also seeks to make updates to approved forms.

DATES: Comments due August 12, 2024. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION: OCS is seeking to continue collecting the information requested from grant recipients under Office of Management and Budget #: 0970-0628. In order to determine best practices in the implementation of supportive services in the affordable housing context and describe how supportive services help residents to improve well-being and economic mobility, OCS will engage in the following activities:

• Conducting interviews with program directors and caseworkers to understand program implementation.

• Conducting focus groups with residents to understand their needs and how the services funded by this grant impacted their lives.

• Administering a self-sufficiency matrix to residents receiving intensive services to understand the impact of the program on various domains of well-being.

• Conducting a questionnaire with residents to see if they were able to access more services due to the funding.

• Collecting information from program officers about the number and types of services/events provided, aggregate demographics of residents served, partner organizations and referrals, and how the housing community was impacted by the grant funding.

• Collecting narrative reports from program officers about the progress of implementation of the program.

This request is to extend the approved collection period to 3 years, which will permit OCS to complete the collection with current grant recipients as well as future grant recipients. With an extended timeline, OCS will request additional responses for several approved instruments to observe activities over the course of the full project period for grant recipients. The self-sufficiency matrix and service receipt questionnaires will be administered every 6 months during the project period. The semi-annual report mandatory and optional forms will be required every 6 months, with a final cumulative report. The quarterly narrative PPR will be requested every quarter of the project period.

OCS has developed substantially revised semi-annual report forms for the mandatory and optional reports to broaden the measures of service delivery and outcomes to better accommodate the universe of potential services offered by future cohorts of grant recipients. The new mandatory form combines the direct services and referrals tabs of the original form into a single tab where grant recipients will report the number of individuals receiving services through AHSSD funding and through the organization's other funding sources, alongside the information reported about referrals. The new optional form broadens the list of outcome measures that grant recipients can choose to report for the individuals they serve. In consideration of the overall reporting burden for grant recipients, the revised forms continue to draw upon the service and outcome categories that grant recipients already use to report their CSBG-related activities (OMB# 0970-0492). Additionally, the revised forms request cumulative counts across the grant period, negating the need for a separate final report.

Current grant recipients will be able to choose between using the current forms and the revised forms through the completion of their current project. New grant recipients will be required to use the revised forms.

Respondents: There will be three types of respondents to the proposed instruments. First, the direct beneficiaries, the clients receiving supportive services, will participate in the service receipt questionnaire, self-sufficiency matrix, and focus groups, and they will also provide information about their characteristics, needs, and outcomes for the grant recipients' semi-annual reporting. Second, the program directors and social services staff will respond to interview instruments tailored to their roles. Grant recipients will also be asked to complete quarterly PPRs and semi-annual reports to describe their service delivery activities, and outcomes.

Annual Burden Estimates

Burden estimates show the total number of responses per respondent over the next 3 years. The current grant recipients (9 total) will be able to choose between using the current forms and the revised forms through the completion of their current project. New grant recipients (9 new recipients estimated) will be required to use the revised forms.

Instrument | Total number of respondents | Total number of responses per respondent | Average burden hours per response | Total burden hours | Annual burden hours
Interviews with program directors | 18 | 1 | 1.5 | 27 | 9
Interviews with caseworkers | 36 | 1 | 1 | 36 | 12
Focus groups with residents | 50 | 1 | 1.5 | 75 | 25
Self-sufficiency matrix | 1,000 | 3 | 1.5 | 4,500 | 1,500
Service receipt questionnaire | 1,000 | 3 | .25 | 750 | 250
Semi-Annual Report Mandatory—original form | 9 | 4 | 2 | 72 | 24
Semi-Annual Report Mandatory—revised form | 9 | 3 | 3 | 81 | 27
Semi-Annual Report Optional—original form | 6 | 4 | 2 | 48 | 16
Semi-Annual Report Optional—revised form | 6 | 3 | 2 | 36 | 12
PPR Narrative Report | 18 | 6 | 2 | 216 | 72

Estimated Total Annual Burden Hours: 1,947.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 1110, Social Security Act, 42 U.S.C. 1310.

Mary C. Jones,
ACF/OPRE Certifying Officer.

[FR Doc. 2024-12875 Filed 6-11-24; 8:45 am]

BILLING CODE 4184-24-P